DEPARTMENT OF COMMERCE

Foreign-Trade Zones Board

[B-51-2019]

Foreign-Trade Zone 201—Holyoke, Massachusetts Application for Subzone ProAmpac Holdings, Inc.; Westfield, Massachusetts

An application has been submitted to the Foreign-Trade Zones (FTZ) Board by the Holyoke Economic Development and Industrial Corporation, grantee of FTZ 201, requesting subzone status for the facilities of ProAmpac Holdings, Inc. (ProAmpac), located in Westfield, Massachusetts. The application was submitted pursuant to the provisions of the Foreign-Trade Zones Act, as amended (19 U.S.C. 81a-81u), and the regulations of the FTZ Board (15 CFR part 400). It was formally docketed on August 13, 2019.

The proposed subzone would consist of the following sites: Site 1 (9.452 acres) 132 N Elm Street, Westfield, Hampden County; and Site 2 (19.439 acres) 175 Ampad Road, Westfield, Hampden County. A notification of proposed production activity has been submitted and is being processed under 15 CFR 400.37 (Doc. B-47-2019).

In accordance with the FTZ Board's regulations, Elizabeth Whiteman of the FTZ Staff is designated examiner to review the application and make recommendations to the FTZ Board.

Public comment is invited from interested parties. Submissions shall be addressed to the FTZ Board's Executive Secretary and sent to: ftz@trade.gov. The closing period for their receipt is September 25, 2019. Rebuttal comments in response to material submitted during the foregoing period may be submitted during the subsequent 15-day period to October 10, 2019.

A copy of the application will be available for public inspection in the “Reading Room” section of the FTZ Board's website, which is accessible via www.trade.gov/ftz.

For further information, contact Elizabeth Whiteman at Elizabeth.Whiteman@trade.gov or (202) 482-0473.

Dated: August 13, 2019.
Elizabeth Whiteman,
Acting Executive Secretary.

[FR Doc. 2019-17645 Filed 8-15-19; 8:45 am]

BILLING CODE 3510-DS-P